DEPARTMENT OF AGRICULTURE

Rural Housing Service

Notice of Funds Availability (NOFA) Inviting Applications for the Rural Community Development Initiative (RCDI); Correction

AGENCY: Rural Housing Service, USDA.

ACTION: Notice; correction.

SUMMARY: The Rural Housing Service (RHS) is correcting a notice published July 30, 2003 (68 FR 44729-44738). This action is taken to correct the contents of the application package requiring that applicants submit a Dun and Bradstreet Data Universal Numbering System (DUNS) number. This amendment is required by an Office of Management and Budget (OMB) policy directive issued in the Federal Register on June 27, 2003 (68 FR 38402). The policy directive requires all grant applicants to provide a DUNS number when applying for Federal grants or cooperative agreements on or after October 1, 2003. This correction provides instructions to grant applicants on how to obtain the DUNS number.

Accordingly, the notice published on July 30, 2003 (68 FR 44729-44738), is corrected as follows:

On page 44731 in the third column under the heading “Contents of Application Package,” Number 1 should read: “1. A summary page, double spaced between items, listing the following: (This information should not be presented in narrative form.)

a. Applicant's name,

b. Applicant's address,

c. Applicant's telephone number,

d. Name of applicant's contact person and telephone number,

e. Applicant's fax number,

f. County where applicant is located,

g. Congressional district number where applicant is located,

h. Amount of grant request,

i. Applicant's Tax Identification Number,

j. Number of recipients,

k. Source and amount of matching funds, and

l. Data Universal Numbering System (DUNS) number—Applicants should verify that they have a DUNS number or take the steps needed to obtain one. A DUNS number can be obtained at no cost by calling the dedicated toll-free DUNS number request line at 1-866-705-5711.”

On page 44735 in the second column under the heading “Grantee Requirements,” add a new Number 11 to read:

“11. Provide the applicant's Data Universal Numbering System (DUNS) number obtained from Dun and Bradstreet. The DUNS number can be obtained by the applicant at no cost by calling the dedicated toll-free DUNS number request line at 1-866-705-5711.”

Dated: September 17, 2003.
Arthur A. Garcia,
Administrator, Rural Housing Service.

[FR Doc. 03-24414 Filed 9-25-03; 8:45 am]

BILLING CODE 3410-XV-P